DEPARTMENT OF AGRICULTURE

Forest Service

Big Horn County Resource Advisory Committee

AGENCY: Forest Service, USDA.

ACTION: Notice of meeting.

SUMMARY: The Big Horn County Resource Advisory Committee will meet in Lovell, Wyoming. The committee is meeting as authorized under the Secure Rural Schools and Community Self-Determination Act (Pub. L. 110-343) and in compliance with the Federal Advisory Committee Act. The purpose is to hold the third meeting and to vote on project proposals.

DATES: The meeting will be held on March 3, 2011, and will begin at 10 a.m.

ADDRESSES: The meeting will be held at the Big Horn Federal Savings Bank, 8 East Main Street, Lovell, Wyoming. Written comments about this meeting should be sent to Laurie Walters-Clark, Bighorn National Forest, 2013 Eastside 2nd Street, Sheridan, Wyoming 82801. Comments may also be sent via e-mail to comments-bighorn@fs.fed.us, with the words Big Horn County RAC in the subject line. Facsimilies may be sent to 307-674-2668.

All comments, including names and addresses when provided, are placed in the record and are available for public inspection and copying. The public may inspect comments received at Bighorn National Forest, 2013 Eastside 2nd Street, Sheridan, Wyoming 82801. Visitors are encouraged to call ahead to 307-674-2600 to facilitate entry into the building.

FOR FURTHER INFORMATION CONTACT: Laurie Walters-Clark, RAC Coordinator, USDA, Bighorn National Forest, 2013 Eastside 2nd Street, Sheridan, Wyoming 82801; (307) 674-2627.

Individuals who use telecommunication devices for the hearing impaired may call 1-307-674-2604 between 8 a.m. and 5 p.m., Mountain time, Monday through Friday.

SUPPLEMENTARY INFORMATION: The meeting is open to the public. The following business will be conducted: (1) Introductions of all committee members and Forest Service personnel, (2) Finalization and approval of Project Evaluation Criteria, (3) Project reviews, and (5) Public Comment; and (6) Project voting for recommendation. Persons who wish to bring related matters to the attention of the Committee may file written statements with the Committee staff before or after the meeting.

Dated: February 7, 2011.
Sandra E. Marquis,
Forest Administrative Officer.

[FR Doc. 2011-3074 Filed 2-10-11; 8:45 am]

BILLING CODE 3410-11-P